DEPARTMENT OF HEALTH AND HUMAN SERVICES

National Institutes of Health

Center for Scientific Review; Amended Notice of Meeting

Notice is hereby given of a change in the meeting of the Center for Scientific Review Special Emphasis Panel, June 1, 2009, 8 a.m. to June 2, 2009, 5 p.m., The Melrose Hotel, 2430 Pennsylvania Avenue, NW., Washington, DC, 20037 which was published in the Federal Register on May 14, 2009, 74 FR 22755-22757.

The meeting will be held June 2, 2009 to June 3, 2009. The meeting time and location remain the same. The meeting is closed to the public.

Dated: May 21, 2009.
Jennifer Spaeth,
Director, Office of Federal Advisory Committee Policy.

[FR Doc. E9-12580 Filed 5-28-09; 8:45 am]

BILLING CODE 4140-01-P